DEPARTMENT OF COMMERCE

International Trade Administration

[A-570-001]

Potassium Permanganate From the People's Republic of China: Extension of Time Limit for Preliminary Results of Antidumping New Shipper Review

AGENCY: Import Administration, International Trade Administration, Department of Commerce.

ACTION: Notice of extension of time limit for preliminary results of antidumping new shipper review.

EFFECTIVE DATE: August 17, 2001.

FOR FURTHER INFORMATION CONTACT: John Conniff at (202) 482-1009 or Chris Brady at (202) 482-4406, Office of AD/CVD Enforcement, Group II, Office 4, Import Administration, International Trade Administration, U.S. Department of Commerce, 14th Street and Constitution Ave, NW., Washington, DC 20230.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (2001).

Background

On January 30, 2001, the Department received a request from Groupstars Chemical, Co., Ltd., to conduct a new shipper review of the antidumping order on potassium permanganate from the People's Republic of China. On March 8, 2001, the Department published its initiation of this new shipper review covering the period of January 1, 2000, through December 31, 2000 (66 FR 13895). The preliminary results are currently due no later than August 27, 2001.

Extension of Time Limit for Preliminary Results of Review

Section 351.214(i)(1) of the Department's regulations requires the Department to make a preliminary determination within 180 days after the date on which the new shipper review was initiated. However, if the Secretary concludes that a new shipper review is extraordinarily complicated, under § 351.214(i)(2) of the Department's regulations the Secretary may extend the 180-day period to 300 days.

Due to the issue discussed in the memorandum to Bernard T. Carreau, we have determined that this new shipper review is extraordinarily complicated. Therefore, the Department is extending the time limit for completion of the preliminary results until no later than December 25, 2001. See Memorandum from Holly A. Kuga to Bernard T. Carreau, dated concurrently with this notice, which is on file in the Central Records Unit, Room B-099 of the main Commerce building.

This extension is in accordance with section 751(a)(2)(B)(iv) of the Act and § 351.214(i)(2) of the Department's regulations.

Dated: August 13, 2001.
Bernard T. Carreau,
Deputy Assistant Secretary for Import Administration.

[FR Doc. 01-20834 Filed 8-16-01; 8:45 am]

BILLING CODE 3510-DS-P